DEPARTMENT OF JUSTICE

Notice of Lodging of Proposed Consent Decree Under the Oil Pollution Act

On November 15, 2013, the Department of Justice lodged a proposed consent decree with the United States District Court for the District of Colorado in the lawsuit entitled United States et al. v. Suncor (U.S.A.) Inc., Civil Action No. 1:13-cv-03109.

The United States and the State of Colorado filed this lawsuit against Suncor (U.S.A.) Inc. (“Suncor”) pursuant to the Oil Pollution Act, 33 U.S.C. 2701-2762. The United States' and Colorado's complaint seeks to recover damages for injury to, destruction of, loss of, or loss of use of natural resources resulting from the release of oil at or from the refinery Suncor owns and operates in Commerce City, Colorado. The proposed consent decree requires Suncor to pay $1,764,000 to resolve the United States' and the State of Colorado's claim for natural resource damages, in addition to a partial payment of $123,000 that Suncor has already made.

The publication of this notice opens a period for public comment on the consent decree. Comments should be addressed to the Assistant Attorney General, Environment and Natural Resources Division, and should refer to United States et al. v. Suncor (U.S.A.) Inc., D.J. Ref. No. 90-5-1-1-10821. All comments must be submitted no later than thirty (30) days after the publication date of this notice. Comments may be submitted either by email or by mail in the following manner:

To submit comments: | Send them to:
By email | pubcomment-ees.enrd@usdoj.gov.
By mail | Assistant Attorney General, U.S. DOJ-ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ-ENRD, P.O. Box 7611, Washington, DC 20044-7611.

Please enclose a check or money order for $7.00 (25 cents per page reproduction cost) payable to the United States Treasury.

Robert Brook,
Assistant Chief, Environmental Enforcement Section, Environment and Natural Resources Division.

[FR Doc. 2013-27929 Filed 11-20-13; 8:45 am]

BILLING CODE 4410-15-P